DEPARTMENT OF AGRICULTURE

Cooperative State Research, Education, and Extension Service

Notice of Intent To Reinstate and Revise a Previously Approved Information Collection

AGENCY: Cooperative State Research, Education, and Extension Service, USDA.

AGENCY: Notice and request for comments.

SUMMARY: In accordance with the Paperwork Reduction Act of 1995 (44 U.S.C. 3501, et seq.)and Office of Management and Budget (OMB) implementing regulations (5 CFR part 1320), this notice announces the Cooperative State Research, Education, and Extension Service's (CSREES) intention to request approval to reinstate and revise a previously approved information collection in support of authorizations to use the 4-H Club Name and/or Emblem.

DATES: Written comments on this notice must be received by December 29, 2008 to be assured of consideration. Comments received after that date will be considered to the extent practicable.

ADDRESSES: You may submit comments, identified by [docket # and/or RIN #], by any of the following methods: Federal eRulemaking Portal: http://regulations.gov. Follow the instructions for submitting comments. E-mail: jhitchcock@csrees.usda.gov; Mail: Jason Hitchcock, Information Systems and Technology Management, USDA/CSREES, STOP 2216, 1400 Independence Avenue, SW., Washington, DC 20250-2216; Hand Delivery/Courier: Jason Hitchcock, Information Systems and Technology Management, USDA/CSREES, 800 9th Street, SW., Room 4217, Waterfront Centre, Washington, DC 20024; Fax: 202-720-0857.

FOR FURTHER INFORMATION CONTACT: Jason Hitchcock, (202) 720-4343. Information is also available at http://www.national4-hheadquarters.gov/emblem/4h_name.htm.

SUPPLEMENTARY INFORMATION: Title: Application for Authorization to Use the 4-H Club Name and/or Emblem.

OMB Number: 0524-0034.

Current Expiration Date of Approval: March 31, 2009.

Type of Request: Intent to request approval to reinstate and revise an information collection.

Abstract: Use of the 4-H Club Name and/or Emblem is authorized by an Act of Congress (18 U.S.C. 707). Use of the 4-H Club Name and/or Emblem by anyone other than 4-H Clubs and those duly authorized by them, representatives of the United States Department of Agriculture, the land-grant colleges and universities, and persons authorized by the Secretary of Agriculture is prohibited by the provisions of 18 U.S.C. 707. The Secretary of Agriculture has delegated authority to the Administrator of CSREES to authorize others to use the 4-H Club Name and Emblem. The Administrator has promulgated regulations at 7 CFR part 8 that govern such use. The regulatory requirements for use of the 4-H Club Name and/or Emblem reflect the high standards of 4-H and its educational goals and objectives. Pursuant to provisions of 7 CFR part 8, anyone requesting authorization from the Administrator to use the 4-H Club Name and Emblem is asked to describe the proposed use in a formal application. The collection of this information is used to determine whether the applicant's proposed use will meet the regulatory requirements in 7 CFR part 8 and whether an authorization for use should be granted.

Need and Use of the Information: CSREES will collect information on the name of the individual, partnership, corporation, or association; the organizational address; the name of an authorized representative; the telephone number, facsimile number, website, and e-mail address; the proposed use of the 4-H Club Name and/or Emblem; a sample of the product showing proposed use of the 4-H Club Name and Emblem and list samples of products (i.e., mugs or shirts) or exhibits (i.e., educational brochures, posters, or publications) submitted; and the plan for sale or distribution of the product bearing the 4-H Club Name and/or Emblem. The information collected by CSREES will be used to determine if those applying to use the 4-H Name and/or Emblem meet the regulatory requirements. If the information is not collected, it would not be possible to ensure that the products, services, and materials meet the regulatory requirements as well as 4-H educational goals and objectives.

Estimate of Burden: Minimal changes have been proposed to this collection and the public reporting burden remains at the estimated average .5 hours per response.

Respondents: Individuals, households, businesses or other for-profit or not-for-profit institutions.

Estimated Number of Respondents: 60.

Estimated Number of Responses per Respondent: 1.

Estimated Total Annual Burden on Respondents: 30 hours.

Comments: Comments are invited on: (a) Whether the proposed collection of information is necessary for the proper performance of the functions of the agency, including whether the information will have practical utility; (b) the accuracy of the agency's estimate of the burden of the proposed collection of information, including the validity of the methodology and assumptions; (c) ways to enhance the quality, utility and clarity of the information to be collected; and (d) ways to minimize the burden of the collection of information on those who are to respond, including through the use of appropriate automated, electronic, mechanical, or other technological collection techniques or other forms of information technology.

Obtaining a Copy of the Information Collection: A copy of the information collection and related instructions may be obtained free of charge by contacting Jason Hitchcock by telephone, (202) 720-4343, or by e-mail, jhitchcock@csrees.usda.gov. Information also is available at http://www.national4-hheadquarters.gov/emblem/4h_name.htm.

Done in Washington, DC, this 24th day of October 2008.
Gale Buchanan,
Under Secretary, Research, Education, and Economics.

[FR Doc. E8-25858 Filed 10-29-08; 8:45 am]

BILLING CODE 3410-22-P